DEPARTMENT OF TRANSPORTATION

Coast Guard

[USCG-2000-8229]

Notice of Availability, Final Programmatic Environmental Impact Statement for the Integrated Deepwater System Project

AGENCY: Coast Guard, DOT.

ACTION: Notice of availability.

SUMMARY: The U.S. Coast Guard (USCG) announces the availability of the Final Programmatic Environmental Impact Statement (PEIS) on the Integrated Deepwater System Project. This PEIS covers general issues in a broad program-oriented analysis encompassing the replacement systems proposed by industry and the No-action alternative. The Coast Guard seeks public and agency input on the Final PEIS.

DATES: The PEIS will be available on March 29, 2002. Comments must reach the Coast Guard on or before April 29, 2002.

ADDRESSES: Comments may be submitted in several ways. To make sure your comments and related material are not entered more than once in the docket, please submit them by only one of the following means:

(1) By mail to the Docket Management Facility [USCG-2000-8229], US Department of Transportation, Room PL-401, 400 Seventh Street SW., Washington, DC 20590-0001.

(2) By delivery to Room PL-401 on the Plaza Level of the Nassif Building, 400 Seventh Street SW., Washington, DC 20590-0001.

(3) By fax to the Docket Management Facility at 202-493-2251.

(4) Electronically through the Web site for the Docket Management System at http://dms.dot.gov.

The Docket Management Facility maintains the public docket for this notice. Comments will become part of this docket and will be available along with the Final Programmatic Environmental Impact Statement for inspection or copying at Room PL-401, located on the Plaza Level of the Nassif Building at the above address between 9 a.m. and 5 p.m., Monday through Friday, expect for Federal holidays. You may also view this docket, including this notice and comments, on the Internet at http://dms.dot.gov.

FOR FURTHER INFORMATION CONTACT: If you have questions on this notice, the proposed project, or the associated statement, call LCDR Eric Johnson, Deepwater Environmental & Facilities Planner by telephone at 202-267-1665, or by e-mail at ejohnson@comdt.uscg.mil or at the Coast Guard's Deepwater EIS Web page at http://www.deepwatereis.com/. If you have questions on viewing or submitting material to the docket, call Dorothy Beard, Chief, Dockets, Department of Transportation, telephone 202-366-9329.

SUPPLEMENTARY INFORMATION:

Request for Comments

NEPA provides for a 30-day comment period after publication of the Final PEIS, during which the public may comment on the adequacy of responses to comments and the Final PEIS. Persons submitting comments should include their names and addresses, identify the docket number [USCG-2000-8229], and the reason for each comment. You may submit your comments by mail, hand delivery, fax or electronic means to the Docket Management Facility at the address given under Addresses, but please submit your comments and materials by only one means. If you submit them by mail or hand delivery, submit them in an unbound format, no larger than 8½ by 11 inches, suitable for copying and electronic filing. If you submit them by mail and would like to know if they reached the Facility, please enclose a stamped, self-addressed postcard or envelope. For additional information about this notice of the Programmatic Environmental Impact Statement, contact Joan Lang, Deepwater Program NEPA Coordinator (under contract to the Coast Guard), 202-267-0284 or via e-mail at jlang@comdt.uscg.mil.

Proposed Action

In accordance with section 202[2][c] of the National Environmental Policy Act (NEPA) of 1969, as implemented by the Council on Environmental Quality regulations (40 CFR parts 1500-1508), Department of Transportation (DOT) Order 5610.1C (Procedures for Considering Environmental Impacts), and Coast Guard Policy (NEPA: Implementing Procedures and Policy for Considering Environmental Impacts, COMDTINST M16475.1D), the Coast Guard has prepared a Final PEIS on the Deepwater Program. The purpose of a PEIS is to develop a high-level approach and direction for implementing a broad policy or program. The Deepwater Program meets those criteria. As a first tier EIS, this PEIS covers general issues in a broader program-oriented analysis encompassing the replacement systems proposed by industry and the No-action alternative. Subsequent NEPA documentation will concentrate on specific implementing actions, such as home basing of new ships and aircraft, as required.

The Coast Guard published a Notice of Intent and Request for Public Comments on November 9, 2000 (65 FR 67441). That same Notice included the dates and locations of several meetings that were held around the country to accept comments on what the Coast Guard should consider in its PEIS. During this scoping process, and based on Federal Agency comments, it was determined that the PEIS should address two alternatives: Action and No-action. The Action Alternatives includes the proposed system replacements discussed in the NOI. The Coast Guard determined that the best way to describe the impacts of the Action Alternative in the programmatic EIS was by combining all of the proposals into ranges of asset quantities and types and ranges of environmental impacts. This approach protects the procurement-sensitive information regarding the specific number and types of assets proposed by each industry team. However, to more accurately identify potential environmental impacts, the actual numbers and types of each teams' assets were used in the impact modes.

The Coast Guard's ability to predict future environmental impacts of this multi-decade acquisition with 100% accuracy is drastically reduced by uncertainties with regard to funding, technology, political, social and logistic changes. When viewed from a programmatic level, these uncertainties more than outweigh any differences that may exist among the various proposed system replacements. Therefore, the use of ranges to show possible impacts from the two alternatives provides an analysis commensurate with the level of detail of the decision being made, protects procurement-sensitive information, and provides the public with sufficient information to submit informed comments.

The specific industry team proposal information will be maintained in the administrative record for Coast Guard agency use only, as described in the NOI.

The Coast Guard published a Notice of Availability of the Draft Programmatic Environmental Impact Statement on October 26, 2001 (66 FR 54324). Comments were originally due on December 10, 2001. However, due to delivery problems resulting from anthrax concerns, comments were received in January that had been mailed prior to the original deadline. These comments were accepted and included in the Final PEIS. A total of 28 letters were received from various agencies and the public. All comments are discussed, along with any changes made in response to the comments, in Appendix M of the Final PEIS. No requests for public hearings were received.

After the 30-day comment period described in the Request for Comments section of this notice, a Record of Decision (ROD) detailing the Coast Guard's decision of the selected alternative will be prepared and published in the Federal Register. The entire ROD will be made available for public review at that time.

Dated: March 13, 2002.
P.M. Stillman,
Rear Admiral, U.S. Coast Guard, Program Executive Officer, Integrated Deepwater System.

[FR Doc. 02-7569 Filed 3-28-02; 8:45 am]

BILLING CODE 4910-15-P